DEPARTMENT OF TRANSPORTATION

National Highway Traffic Safety Administration

Reports, Forms and Recordkeeping Requirements; Agency Information Collection Activity Under OMB Review

AGENCY: National Highway Traffic Safety Administration, DOT.

ACTION: Request for public comment on proposed collection of information.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on November 15, 2007 [Vol. 72 FR 64275].

DATES: Comments must be submitted on or before February 22, 2008.

FOR FURTHER INFORMATION CONTACT: Mr. Paul Simmons at the National Highway Traffic Safety Administration, Office of Defects Investigation, NHTSA, 1200 New Jersey Avenue SE., Washington, DC 20590. Mr. Simmons can be contacted at (202)366-2315. Please identify the relevant collection of information by referring to its OMB Control Number.

ADDRESSES: Send comments, within 30 days, to the Office of Information and Regulatory Affairs, Office of Management and Budget, 725-17th Street, NW., Washington, DC 20503, Attention NHTSA Desk Officer.

SUPPLEMENTARY INFORMATION: Before a Federal agency can collect certain information from the public, it must receive approval from the Office of Management and Budget (OMB). Under procedures established by the Paperwork Reduction Act of 1995, before seeking OMB approval, Federal agencies must solicit public comment on proposed collections of information, including extensions and reinstatement of previously approved collections.

Agency: National Highway Traffic Safety Administration.

Title: Reporting of Information and Documents About Potential Defects. OMB Number: 2127-0616.

OMB Number: 2127-0616.

Type of Request: Extension of currently approved collection.

Abstract: Under Chapter 301 of Title 49 of the United States Code, manufacturers of motor vehicles and items of motor vehicle equipment are periodically required to submit certain information to NHTSA, including information about claims and notices about deaths and serious injury, property damage data, communications to customers and others, and information on incidents resulting in fatalities or serious injuries from possible defects in vehicles or equipment in the United States or in identical or substantially similar vehicles or equipment in foreign countries. The statute also authorizes NHTSA to require the submission of other data that may assist in the identification of safety-related defects in vehicles and equipment. Information and documents submitted are intended to provide NHTSA with “early warning” of potential safety related defects in motor vehicles and motor vehicle equipment. NHTSA relies on the information provided (as well as other relevant information) in deciding whether to open safety defect investigations. Please note that the currently approved ICR, “Reporting of Information About Foreign Safety Recalls and Campaigns Related to Potential Defects” (OMB Control Number 2127-0620) is incorporated with this request for collections.

Affected Public: Manufacturers of motor vehicles and motor vehicle equipment sold in the U.S.

Estimated Total Annual Burden: The annual burden is estimated to be 82,381 hours. The estimated annual cost is $8,916,602.

ADDRESSES: Send comments, within 30 days, to the Office of Information and Regulatory Affairs, Office of Management and Budget, 725-17th Street, NW., Washington, DC 20503. Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued in Washington, DC, on January 24, 2008.
Kathleen C. DeMeter,
Director, Office of Defects Investigation.

[FR Doc. 08-377 Filed 1-29-08; 8:45 am]

BILLING CODE 4910-59-P